DEPARTMENT OF THE INTERIOR

National Park Service

[NPS-WASO-NAGPRA-NPS0027337; PPWOCRADN0-PCU00RP14.R50000]

Notice of Inventory Completion: Historical Society of Saginaw County, Inc., Saginaw County, MI

AGENCY: National Park Service, Interior.

ACTION: Notice.

SUMMARY: The Historical Society of Saginaw County, Inc. has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Historical Society of Saginaw County, Inc. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Historical Society of Saginaw County, Inc. at the address in this notice by April 17, 2019.

ADDRESSES: Jeffrey Sommer, Historical Society of Saginaw County, Inc., 500 Federal Avenue, Saginaw, MI 48607, telephone (989) 752-2861 Ext. 308, email jsommer@castlemuseum.org.

SUPPLEMENTARY INFORMATION: Notice is here given in accordance with the Native American Graves Protection and Repatriation Act (NAGPRA), 25 U.S.C. 3003, of the completion of an inventory of human remains under the control of the Historical Society of Saginaw County, Inc., Saginaw County, MI. The human remains were removed from an uncertain location, but probably somewhere in Saginaw County, MI.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Historical Society of Saginaw County, Inc. professional staff in consultation with representatives of the Little Traverse Bay Bands of Odawa Indians; Minnesota Chippewa Tribe, Minnesota (Six component reservations: Bois Forte Band (Nett Lake); Fond du Lac Band; Grand Portage Band; Leech Lake Band; Mille Lacs Band; White Earth Band); and the Saginaw Chippewa Indian Tribe of Michigan.

The Absentee-Shawnee Tribe of Indians of Oklahoma; Bad River Band of the Lake Superior Tribe of Chippewa Indians of the Bad River Reservation, Wisconsin; Bay Mills Indian Community, Michigan; Chippewa Cree Indians of the Rocky Boy's Reservation, Montana (previously listed as the Chippewa-Cree Indians of the Rocky Boy's Reservation, Montana); Citizen Potawatomi Nation, Oklahoma; Delaware Nation, Oklahoma; Delaware Tribe of Indians; Eastern Shawnee Tribe of Oklahoma; Forest County Potawatomi Community, Wisconsin; Grand Traverse Band of Ottawa and Chippewa Indians, Michigan; Hannahville Indian Community, Michigan; Keweenaw Bay Indian Community, Michigan; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Little River Band of Ottawa Indians, Michigan; Match-e-be-nash-she-wish Band of Pottawatomi Indians of Michigan; Miami Tribe of Oklahoma; Minnesota Chippewa Tribe, Minnesota (Six component reservations: Bois Forte Band (Nett Lake), Fond du Lac Band, Grand Portage Band, Leech Lake Band, Mille Lacs Band, White Earth Band); Nottawaseppi Huron Band of the Potawatomi, Michigan (previously listed as the Huron Potawatomi, Inc.); Ottawa Tribe of Oklahoma; Peoria Tribe of Indians of Oklahoma; Pokagon Band of Potawatomi Indians, Michigan and Indiana; Prairie Band of Potawatomi Nation (previously listed as the Prairie Band of Potawatomi Nation, Kansas); Quechan Tribe of the Fort Yuma Indian Reservation, California & Arizona; Red Cliff Band of Lake Superior Chippewa Indians of Wisconsin; Red Lake Band of Chippewa Indians, Minnesota; Sac & Fox Nation of Missouri in Kansas and Nebraska; Sac & Fox Nation, Oklahoma; Sac & Fox Tribe of the Mississippi in Iowa; Sault Ste. Marie Tribe of Chippewa Indians, Michigan; Seneca Nation of Indians (previously listed as the Seneca Nation of New York); Seneca-Cayuga Nation (previously listed as the Seneca-Cayuga Tribe of Oklahoma); Sokaogon Chippewa Community, Wisconsin; St. Croix Chippewa Indians of Wisconsin; Tonawanda Band of Seneca (previously listed as the Tonawanda Band of Seneca Indians of New York); Turtle Mountain Band of Chippewa Indians of North Dakota; and the Wyandotte Nation were invited to consult, but did not participate.

Hereafter, all Tribes listed in this section are referred to as “The Consulted and Invited Tribes.”

History and Description of the Remains

At an unknown date, human remains representing, at minimum, two individuals were removed from an undetermined location or locations, probably in Saginaw County, MI. No known individuals were identified. The human remains were found in the Peacock collection. There are no known accession or other records indicating when or by whom this collection was deposited at the Historical Society of Saginaw County. Some of the archeological materials in the Peacock collection are known to have been collected from various sites in Saginaw County, MI, and the same is probably true for the human remains. However, no notes or other documentation describing the circumstances of discovery of the human remains are known to exist. The fragmentary human remains are determined to be Native American based on their being part of a larger collection of archeological materials comprised primarily of prehistoric Native American artifacts. No associated funerary objects are present.

Determinations Made by the Historical Society of Saginaw County, Inc.

Officials of the Historical Society of Saginaw County, Inc. have determined that:

• Pursuant to 25 U.S.C. 3001(9), the human remains described in this notice are Native American based on their being part of a larger collection of archeological materials comprised primarily of prehistoric Native American artifacts.

• Pursuant to 25 U.S.C. 3001(9), the human remains described in this notice represent the physical remains of two individuals of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of the Saginaw Chippewa Indian Tribe of Michigan.

• Treaties, Acts of Congress, or Executive Orders, indicate that the land from which the Native American human remains were removed is the aboriginal land of The Consulted and Invited Tribes.

• Pursuant to 43 CFR 10.11(c)(1), the disposition of the human remains may be to The Consulted and Invited Tribes.

Additional Requestors and Disposition

Representatives of any Indian Tribe or Native Hawaiian organization not identified in this notice that wish to request transfer of control of these human remains should submit a written request with information in support of the request to Jeffrey Sommer, Historical Society of Saginaw County, Inc., 500 Federal Avenue, Saginaw, MI 48607, telephone (989) 752-2861 Ext. 308, email jsommer@castlemuseum.org, by April 17, 2019. After that date, if no additional requestors have come forward, transfer of control of the human remains to The Consulted and Invited Tribes may proceed.

The Historical Society of Saginaw County, Inc. is responsible for notifying The Consulted and Invited Tribes that this notice has been published.

Dated: February 12, 2019.
Melanie O'Brien,
Manager, National NAGPRA Program.

[FR Doc. 2019-04921 Filed 3-15-19; 8:45 am]

BILLING CODE 4312-52-P